DEPARTMENT OF DEFENSE

Office of the Secretary

[Docket ID: DOD-2010-OS-0034]

Defense Transportation Regulation, Part IV

AGENCY: United States Transportation Command (USTRANSCOM), DoD.

ACTION: Response to comments received.

SUMMARY: The Department of Defense has issued an interim response and disposition of comments received in connection with the Defense Personal Property Program (DP3), Phase III Final-Draft Business Rules. The notice was published in the Federal Register April 1, 2010 (75 FR 16445-16446). The interim response and disposition of comments can be viewed on the USTRANSCOM Web site (under misc) at http://www.transcom.mil/dtr/part-iv/misc.cfm.

Additional review of remaining comments received is on-going. Any subsequent changes will be published in a Federal Register Announcement and incorporated into the Defense Transportation Regulation (DTR) Part IV (DTR 4500.9R).

FOR FURTHER INFORMATION CONTACT: Mr. Jim Teague, United States Transportation Command, TCJ5/4-PI, 508 Scott Drive, Scott Air Force Base, IL 62225-5357; (618) 229-1985.

SUPPLEMENTARY INFORMATION: A complete version of the DTR is available via the Internet on the USTRANSCOM homepage at http://www.transcom.mil/j5/pt/dtr_part_iv.cfm.

Dated: November 10, 2010.
Morgan F. Park,
Alternate OSD Federal Register Liaison Officer, Department of Defense.

[FR Doc. 2010-28927 Filed 11-16-10; 8:45 am]

BILLING CODE 5001-06-P